ENVIRONMENTAL PROTECTION AGENCY

[ER-FRL-6639-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

Summary of Rating Definitions

Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or section 309 review, and thus should be formally revised and made available for public comment in a supplemental or revised draft EIS. On the basis of the potential significant impacts involved, this proposal could be a candidate for referral to the CEQ.

Draft EIS

ERP No. D-AFS-F65036-WI Rating EC2, Hoffman-Sailor West Project, Timber Harvest, Regeneration Activities, Connected Road Construction and Decommissioning, Chequamegon-Nicolet National Forest, Medford/Park Falls Ranger District, Price County, WI.

Summary: EPA expressed environmental concerns with project impacts and overall forest health, including commutative impacts. The Final EIS should address how the emphasis on managing for aspen and the potential for overpopulation of species that could impact forest in and outside the project area and especially how roadless and wilderness areas will be managed.

ERP No. D-AFS-J65375-MT Rating EC2, Sheep Creek Range Analysis, Grazing and Special Use Allotments Reorganization, Grazing and Special Use Permits Issuance, Lewis and Clark National Forest, White Sulphur Springs Ranger District, Meagher and Cascade Counties, MT.

Summary: While EPA supports the proposed grazing improvements and preferred alternative, EPA did express environmental concerns regarding potential impacts to the watershed, effects on wetlands and springs and stream flows from proposed water development. Uncertainties with the availability of adequate funds and resources to implement proposed range improvements and the proposed riparian monitoring program should be addressed in the final EIS.

ERP No. D-NPS-G65085-AR Rating LO, Arkansas Post National Memorial General Management Plan, Implementation, Osotouy Unit, Arkansas and Mississippi Rivers, Arkansas County, AR.

Summary: EPA has no objection to the management plan.

Final EIS

ERP No. F-BLM-L65391-OR, Lakeview Resource Management Plan, Unified Land Use Plan to Replace All or Portions of Three nearly Twenty Year Old Existing Land Use Plans, Implementation, Lake and Bend Counties, OR.

Summary: EPA expressed environmental concerns with the adequacy of information on noxious weeds, water quality, protection of tribal cultural sites, air quality and impacts from new roads. These issues and a mitigation strategy from future energy development activities should be addressed in the final EIS.

ERP No. F-FHW-F40405-IL, US 34/FAP-313 Transportation Facility Improvement Project, U.S. 34 from the Intersection of Carman Road east of Gulfport to Monmouth, Funding and US Army COE Section 404 and NPDES Permits Issuance, Henderson and Warren Counties, IL.

Summary: EPA has determined that FHWA has adequately addressed previous concerns related to Botanical Site #3. However, EPA continues to have environmental concerns regarding impacts to impaired waters as well as to the adequacy of water quality information.

ERP No. FS-AFS-J65295-MT, Clancy-Unionville Vegetation Manipulation and Travel Management Project, Updated and New Information concerning Cumulative Effects and Introduction of Alternative F, Clancy-Unionville Implementation Area, Helena National Forest, Helena Ranger District, Lewis and Clark and Jefferson Counties, MT.

Summary: EPA expressed environmental concerns with the potential continued impacts to the watershed and wildlife habitat from road impacts and suggested the action incorporate lower road densities.

Dated: April 1, 2003.
Joseph C. Montgomery,
Director, NEPA Compliance Division, Office of Federal Activities.

[FR Doc. 03-8260 Filed 4-3-03; 8:45 am]

BILLING CODE 6560-50-P